DEPARTMENT OF HEALTH AND HUMAN SERVICES

Centers for Disease Control and Prevention

[60Day-14-14VU]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-639-7570 and send comments to Leroy Richardson, 1600 Clifton Road, MS-D74, Atlanta, GA 30333 or send an email to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

Promoting Adolescent Health Through School-Based HIV/STD Prevention—New—National Center for HIV/AIDS, Viral Hepatitis, STD, and TB Prevention (NHHSTP), Centers for Disease Control and Prevention (CDC).

Background and Brief Description

Many young people engage in sexual behaviors that place them at risk for HIV infection, other sexually transmitted diseases (STD), and pregnancy. According to the 2011 National Youth Risk Behavior Survey (YRBS) results, 47% of U.S. high school students never had sexual intercourse; 34% had sexual intercourse with at least one person during the 3 months before the survey; and 15% had had sexual intercourse with four or more persons during their lifetime. Of those sexually active high school students, 40% reported that either they or their partner had not used a condom during last sexual intercourse, and 77% reported that either they or their partner had not used birth control pills or Depo-Provera (or any injectable birth control), Nuva Ring (or any birth control ring), Implanon (or any implant), or any intrauterine device (IUD) before last sexual intercourse.

Establishing healthy behaviors during childhood and adolescence is easier and more effective than trying to change unhealthy behaviors during adulthood. Since 1987, the Division of Adolescent and School Health (DASH), which is now a part of the National Center for HIV/AIDS, Viral Hepatitis, STD, and TB Prevention, Centers for Disease Control and Prevention (CDC), has been a unique source of support for HIV prevention efforts in the Nation's schools.

CDC requests Office of Management and Budget (OMB) approval to collect data over a three-year period from funded agencies under award PS13-1308: Promoting Adolescent Health through School-Based HIV/STD Prevention and School-Based Surveillance. Funded agencies include non-governmental organizations, state education agencies, and local education agencies. The primary purpose of PS-13-1308 is to build the capacity of priority districts and priority schools to effectively contribute to the reduction of HIV infection and other STD among adolescents; the reduction of disparities in HIV infection and other STD experienced by specific adolescent sub-populations; and the conducting of school-based surveillance, a component not included in this data collection for evaluation.

CDC will be using a web-based system to collect data on the approaches that funded agencies are using to meet their goals. Approaches include helping districts and schools deliver exemplary sexual health education emphasizing HIV and other STD prevention; increasing adolescent access to key sexual health services; and establishing safe and supportive environments for students and staff.

To track funded agency progress and evaluate the effectiveness of program activities, CDC will be collecting data using a mix of process and performance measures. Process measures, which will be completed by all funded agencies, are important to assess the extent to which planned program activities have been implemented and lead to feasible and sustainable programmatic outcomes. Process measures include items on school health policy assessment and monitoring, and on providing training and technical assistance to partner education agencies and schools. Performance measures, which will be completed by only state and local education agencies, assess whether funded activities at each site are leading to intended outcomes including public health impact of systemic change in schools. These measures drove the development of questionnaires that have been tailored to each funded agencies' approach (i.e., exemplary sexual health education, sexual health services, and safe and supportive environments).

Respondents include 19 state education agencies, 17 local education agencies, and 6 non-governmental organizations that have all been funded under PS13-1308. The questionnaires will be submitted to CDC semi-annually using the Program Evaluation and Reporting System, an electronic web-based interface specifically designed for this data collection.

Each funded agency will receive a unique log-in to the system and technical assistance to ensure they can use the system easily. The dates when data are requested reflect Procurement and Grants Office deadlines to provide timely feedback to funded agencies and CDC staff for accountability and optimal use of funds. CDC anticipates that semi-annual information collection will begin in October 2014 and will describe activities conducted during the period August 2014-July 2017.

The estimated burden per response ranges from 0.5 hours to 6 hours. This variation in burden is due to the variability in the questions on the forms based on the approach and type of funded agency. For instance, non-governmental organizations have fewer questions to respond to because they only have questions for process evaluation. Local education agencies have the highest burden because it takes more time to gather information as they gather data at the school- and student-level as compared with state education agencies that report only state- and district-level data. Annualizing this collection over three years results in an estimated annualized burden of 820 hours for all funded agencies.

There are no costs to respondents other than their time.

Estimated Annualized Burden Hours
Type of respondents | Form name | Number of respondents | Number of responses per respondent | Average burden per response (in hrs.) | Total burden (in hrs.)
State Education Agency | Exemplary Sexual Health Education Measures | 19 | 2 | 4 | 152
| Sexual Health Services Measures | 19 | 2 | 3 | 114
| Safe and Supportive Environments Measures | 19 | 2 | 1 | 38
Local Education Agency | Exemplary Sexual Health Education Measures | 17 | 2 | 6 | 204
| Sexual Health Services Measures | 17 | 2 | 3 | 102
| Safe and Supportive Environments Measures | 17 | 2 | 6 | 204
Non-governmental organization | Exemplary Sexual Health Education Measures | 2 | 2 | 0.5 | 2
| Sexual Health Services Measures | 2 | 2 | 0.5 | 2
| Safe and Supportive Environments Measures | 2 | 2 | 0.5 | 2
Total |  |  |  |  | 820

LeRoy Richardson,
Chief, Information Collection Review Office, Office of Scientific Integrity, Office of the Associate Director for Science, Office of the Director, Centers for Disease Control and Prevention.

[FR Doc. 2014-09769 Filed 4-29-14; 8:45 am]

BILLING CODE 4163-18-P